DEPARTMENT OF THE INTERIOR

Fish and Wildlife Service

50 CFR Part 17

Endangered and Threatened Wildlife and Plants; Extension of Public Comment Period and Notice of Availability of a Draft Environmental Assessment and Receipt of an Application for an Incidental Take Permit for the Briargate Development, El Paso County, CO

AGENCY: Fish and Wildlife Service, Interior.

ACTION: Notice of availability and receipt of application; extension of public comment period.

SUMMARY: This notice advises the public that La Plata Investments, LLC (Applicant) has applied to the Fish and Wildlife Service (Service) for an Incidental Take Permit pursuant to Section 10(a)(1)(B) of the Endangered Species Act of 1973, as amended (Act). The Service proposes to issue a 30-year permit to the Applicant that would authorize the incidental take of the Preble's meadow jumping mouse (Zapus hudsonius preblei) (Preble's), federally listed as threatened, and loss and modification of its habitat associated with construction of a residential and commercial development in El Paso County, Colorado. The permit application includes a combined Environmental Assessment/Habitat Conservation Plan (Plan), which is available for public review and comment. We previously published a notice requesting comment on this proposal on November 22, 2002 (67 FR 70453). We received a request to extend the comment period and are hereby granting that request for an additional 30 days. Comments previously submitted need not be resubmitted as they have already been incorporated into the public record and will be fully considered in our final decision on the Plan. Comments submitted during this comment period also will be incorporated into the public record and will be fully considered. All comments on the Plan and permit application will become part of the administrative record and will be available to the public.

DATES: Written comments on the permit application and plan should be received on or before February 20, 2003.

ADDRESSES: Comments regarding the permit application or the Plan should be addressed to LeRoy Carlson, Field Supervisor, Colorado Ecological Services Field Office, U.S. Fish and Wildlife Service, 755 Parfet Street, Suite 361, Lakewood, Colorado 80215, or by facsimile to 303-275-2371. Comments and materials received, as well as supporting documentation used in preparation of this proposed rule, may be viewed, by appointment, during normal business hours, at the U.S. Fish and Wildlife Service's Colorado Field Office.

FOR FURTHER INFORMATION CONTACT: Kathleen Linder, Fish and Wildlife Biologist, Colorado Field Office, at the above address or telephone 303-275-2370.

SUPPLEMENTARY INFORMATION:

Document Availability

Individuals wishing copies of the Plan and associated documents for review should immediately contact the above office. Documents also will be available for public inspection, by appointment, during normal business hours at the above address.

Background

Section 9 of the Act and Federal regulation prohibits the “take” of a species listed as endangered or threatened. However, the Service may issue permits to authorize “incidental take” (defined by the Act as take that is incidental to, and not the purpose of, the carrying out of an otherwise lawful activity) of listed species under limited circumstances. Regulations governing permits for threatened species are promulgated in 50 CFR 17.32; regulations governing permits for endangered species are promulgated in 50 CFR 17.22.

The proposed action is the issuance of a permit under section 10(a)(1)(B) of the Act to allow the incidental take of Preble's during the construction of a residential and commercial development at the site. The project will directly affect approximately 33.97 hectares (83.93 acres), of which 10.68 hectares (26.38 acres) are temporary impacts and the remaining 23.29 hectares (57.55 acres) are permanent impacts to potential habitat for Preble's. A Plan has been developed as part of the preferred alternative.

The Preble's is the only federally-listed species that occurs on site and has the potential to be directly affected by the proposed project. The Applicant has agreed to implement the following measures to minimize and mitigate the impacts that may result from project construction:

1. Enhance 4.41 hectares (10.90 acres) of Preble's habitat along the North Fork of Pine Creek. Enhancement will include transplanting native shrubs from areas of impact to protected habitat, over-seeding of native grasses, and noxious weed control.

2. Restoration of 10.68 hectares (26.38 acres) along the main branch of Pine Creek, and the North and South forks of Pine Creek. Restoration will include the immediate revegetation of the site with native grass seed and clumps of native shrubs.

3. Preservation of 64.13 hectares (158.48 acres) of Preble's habitat by the placement of deed restrictions over the property. This is the result of protecting all remaining Preble's habitat within the project area. An additional 7.75 hectares (19.14 acres) of natural open space adjacent to Preble's habitat also will be protected.

4. Off-site enhancement and restoration of approximately 75 hectares (186 acres) along Kettle Creek, an area known to have a healthy population of Preble's. Enhancement will include transplanting native shrubs from areas of impact to protected habitat, over-seeding of native grasses, and noxious weed control. Existing horse trails along the creek bottom will be restored by stabilizing the immediate area, then seeding with native grass species.

5. Off-site preservation of the 75-hectare (186-acre) Kettle Creek Preserve. Initially the property will be protected by deed restrictions. After that, the deed to the entire property will be turned over to the Trust for Public Lands, who is in the process of forming a new not-for-profit organization to take control of these types of properties and manage them for the sole purpose of endangered species habitat.

We previously published a notice requesting comment on this proposal on November 22, 2002 (67 FR 70453). On December 12, 2002, we received a request from Earthjustice Legal Defense Fund to extend the comment period an additional 60 days. Because the Plan and permit application have already been available for 30 days and the request did not contain sufficient rationale for unduly delaying a decision on the permit, we have determined that an additional 60 days is not warranted. However, we are hereby granting an extension for an additional 30 days.

This notice is provided pursuant to section 10(c) of the Act. The Service will evaluate the permit application, the Plan, and comments submitted therein to determine whether the application meets the requirements of section 10(a) of the Act. If it is determined that those requirements are met, a permit will be issued for the incidental take of Preble's. The final permit decision will be made no sooner than 30 days from the date of this notice.

Dated: December 20, 2002.
John A. Blankenship,
Deputy Regional Director, Denver, Colorado.

[FR Doc. 03-1066 Filed 1-17-03; 8:45 am]

BILLING CODE 4310-55-P